ENVIRONMENTAL PROTECTION AGENCY

[FRL 10000-30-ORD]

Ambient Air Monitoring Reference and Equivalent Methods; Designation of One New Reference Method and One Reference Method Amendment

AGENCY: Environmental Protection Agency (EPA).

ACTION: Notice of the designation of a new reference method and an amendment to an existing reference method for monitoring ambient air quality.

SUMMARY: Notice is hereby given that the Environmental Protection Agency (EPA) has designated one new reference method for measuring concentrations of nitrogen dioxide (NO2), and one amendment to an existing reference method for measuring PM10 in ambient air.

FOR FURTHER INFORMATION CONTACT: Robert Vanderpool, Exposure Methods and Measurement Division (MD-D205-03), National Exposure Research Laboratory, U.S. EPA, Research Triangle Park, North Carolina 27711. Phone: 919-541-7877. Email: Vanderpool.Robert@epa.gov.

SUPPLEMENTARY INFORMATION: In accordance with regulations at 40 CFR part 53, the EPA evaluates various methods for monitoring the concentrations of those ambient air pollutants for which EPA has established National Ambient Air Quality Standards (NAAQS) as set forth in 40 CFR part 50. Monitoring methods that are determined to meet specific requirements for adequacy are designated by the EPA as either reference or equivalent methods (as applicable), thereby permitting their use under 40 CFR part 58 by States and other agencies for determining compliance with the NAAQS. A list of all reference or equivalent methods that have been previously designated by EPA may be found at http://www.epa.gov/ttn/amtic/criteria.html.

The EPA hereby announces the designation of one new reference method for measuring concentrations of NO2 in ambient air. This designation is made under the provisions of 40 CFR part 53, as amended on October 26, 2015(80 FR 65291-65468).

The new reference method for NO2 is an automated method (analyzer) utilizing the measurement principle based on gas phase chemiluminescence. This newly designated reference method is identified as follows:

RFNA-0819-254, “Focused Photonics Inc. Model AQMS-600 Chemiluminescent Nitric Oxides Analyzer,” operated with a measurement range of 0-0.5 ppm, equipped with a 1-micron, 47mm diameter Teflon® (PTFE) sample inlet filter, at any temperature in the range of 20 °C to 30 °C, with Molybdenum NOX converter operating at 315 °C, at a nominal sample flow rate of 500±50 cc/min, with an ozone flow rate of 80±10% cc/min, at nominal input line voltage of 220±10% VAC and frequency of 50 Hz. Analyzer operated and maintained in accordance with the Model AQMS-600 Nitric Oxides Analyzer User Manual.

This application for a reference method determination for this NO2 method was received by the Office of Research and Development on July 15, 2019. This analyzer is commercially available from the applicant, Focused Photonics Inc. (FPI), 760 Bin‘an Road, Binjiang District, Hangzhou, Zhejiang, China.

A representative test analyzer was tested in accordance with the applicable test procedures specified in 40 CFR part 53, as amended on October 26, 2015. After reviewing the results of those tests and other information submitted by the applicant, EPA has determined, in accordance with part 53, that this method should be designated as a reference method.

As a designated reference method, this method is acceptable for use by states and other air monitoring agencies under the requirements of 40 CFR part 58, Ambient Air Quality Surveillance. For such purposes, this method must be used in strict accordance with the operation or instruction manual associated with the method and subject to any specifications and limitations (e.g., configuration or operational settings) specified in the designated method description (see the identification of the method above).

Use of the method also should be in general accordance with the guidance and recommendations of applicable sections of the “Quality Assurance Handbook for Air Pollution Measurement Systems, Volume I,” EPA/600/R-94/038a and “Quality Assurance Handbook for Air Pollution Measurement Systems, Volume II, Ambient Air Quality Monitoring Program,” EPA-454/B-13-003, (both available at http://www.epa.gov/ttn/amtic/qalist.html). Provisions concerning modification of such methods by users are specified under Section 2.8 (Modifications of Methods by Users) of Appendix C to 40 CFR part 58.

Consistent or repeated noncompliance with any of these conditions should be reported to: Director, Exposure Methods and Measurement Division (MD-E205-01), National Exposure Research Laboratory, U.S. Environmental Protection Agency, Research Triangle Park, North Carolina 27711.

Designation of this reference method is intended to assist the States in establishing and operating their air quality surveillance systems under 40 CFR part 58. Questions concerning the commercial availability or technical aspects of the method should be directed to the applicant.

The EPA hereby announces the amendment of one reference method for measuring concentrations of PM10 in ambient air. This amendment is made under the provisions of 40 CFR part 53, as amended on October 26, 2015 (80 FR 65291-65468).

This reference method for PM10 is a manual monitoring method based on a specific PM10 sampler. The amendment to this designated reference method corrects a typographical error in the original notice of designation [82 FR 44612, Sept. 25, 2017] and is corrected as follows:

RFPS-0717-246, “Met One Instruments, Inc. E-SEQ-FRM,” sequential sampler configured for multi-event filter sampling of ambient particulate matter using the US EPA PM10 inlet specified in 40 CFR 50 Appendix L, Figs. L-2 thru L-19, with a flow rate of 16.67 L/min, using 47 mm PTFE membrane filter media, and operating with firmware version R1.1.0 and later, and operated in accordance with the Met One E-SEQ-FRM PM10 operating manual. This designation applies to PM10 measurements only.

Dated: September 9, 2019.
Timothy Watkins,
Director, National Exposure Research Laboratory.

[FR Doc. 2019-20926 Filed 9-25-19; 8:45 am]

BILLING CODE 6560-50-P